SMALL BUSINESS ADMINISTRATION

Regulatory Fairness Hearing; Region VIII—Sioux Falls, South Dakota

AGENCY: U.S. Small Business Administration (SBA).

ACTION: Notice of open Hearing of Region VIII Small Business Owners to be held in Sioux Falls, South Dakota.

SUMMARY: The SBA, Office of the National Ombudsman is issuing this notice to announce the location, date and time of the Sioux Falls, South Dakota Regulatory Fairness Hearing. This hearing is open to the public.

DATES: The hearing will be held on Thursday, March 24, 2016, from 10:30 a.m. to 1:00 p.m. (CST).

ADDRESSES: The hearing will be at the Siouxland Libraries—Oak View Branch, 3700 E. 3rd Street, Sioux Falls, SD 57103.

SUPPLEMENTARY INFORMATION: Pursuant to the Small Business Regulatory Enforcement Fairness Act (Pub. L. 104-121), Sec. 222, SBA announces the hearing for Small Business Owners, Business Organizations, Trade Associations, Chambers of Commerce and related organizations serving small business concerns to report experiences regarding unfair or excessive Federal regulatory enforcement issues affecting their members.

FOR FURTHER INFORMATION CONTACT: The hearing is open to the public; however, advance notice of attendance is requested. Anyone wishing to attend and/or make a presentation at the Sioux Falls, South Dakota hearing must contact Elahe Zahirieh by March 17, 2016, in writing, by fax at (202) 481-5719 or email at ombudsman@sba.gov in order to be placed on the agenda. For further information, please contact Elahe Zahirieh, Case Management Specialist, Office of the National Ombudsman, 409 3rd Street SW., Suite 330, Washington, DC 20416, by phone (202) 205-6499 and fax (202) 481-6062. Additionally, if you need accommodations because of a disability, translation services, or require additional information, please contact Elahe Zahirieh as well.

For more information on the Office of the National Ombudsman, see our Web site at www.sba.gov/ombudsman.

Dated: March 3, 2016.
Miguel J. L'Heureux,
SBA Committee Management Officer.

[FR Doc. 2016-05565 Filed 3-10-16; 8:45 am]

BILLING CODE 8025-01-P.